DEPARTMENT OF TRANSPORTATION

Office of the Secretary

[Docket No. DOT-OST-2019-0105]

Senior Executive Service Performance Review Boards Membership

AGENCY: Office of the Secretary, Department of Transportation (DOT).

ACTION: Notice of Performance Review Board (PRB) Appointments.

SUMMARY: DOT published the names of the persons selected to serve on Departmental PRBs as required by 5 U.S.C. 4314(c)(4).

FOR FURTHER INFORMATION CONTACT: Lisa M. Williams, Director, Departmental Office of Human Resource Management (202) 366-4088.

SUPPLEMENTARY INFORMATION: The persons named below may be selected to serve on one or more Departmental PRBs.

Issued in Washington, DC, on August 2, 2019.
Keith E. Washington,
Deputy Assistant Secretary for Administration.

Department of Transportation

Federal Highway Administration

ALONZI, ACHILLE

ARNOLD, ROBERT E

BAKER, SHANA V

BEZIO, BRIAN R

BIONDI, EMILY CHRISTINE

BRIGGS, VALERIE ANNETTE

CHRISTIAN, JAMES C

COLLINS, BERNETTA L.

CRONIN, BRIAN P

EVANS, MONIQUE REDWINE

EVERETT, THOMAS D

FINFROCK, ARLAN E JR

FLEURY, NICOLLE M

FOUCH, BRIAN J

FURST, ANTHONY T

GATTI, JONATHAN D

GRIFFITH, MICHAEL S

HARTMANN, JOSEPH L

HESS, TIMOTHY G.

HUGHES, CAITLIN GWYNNE

KALLA, HARI

KEHRLI, MARK R

KNOPP, MARTIN C

KRISHNAMOORTI, MALATHI

LEONARD, KENNETH

LEWIS, DAVID A

LILLIE, MARK STEVEN

LUCERO, AMY C

MAMMANO, VINCENT P

MARQUIS, RICHARD J

OSBORN, PETER W

PETTY, KENNETH II

RICHARDSON, CHRISTOPHER S

RICHTER, CHERYL ALLEN

RICO, IRENE

RIDGEWAY, MARY F

ROHLF, JOHN G

SCHAFTLEIN, SHARI M

SCHMIDT, ROBERT T

SHEPHERD, GLORIA MORGAN

SIGEL, BETHANY RENEE

STEPHANOS, PETER J

SUAREZ, RICARDO

TURNER, DERRELL E

WALKER, CHERYL J

WINTER, DAVID R

WRIGHT, LESLIE JANICE

ZIMMERMAN, MARY BETH

Federal Motor Carrier Safety Administration

COLLINS, ANNE L

DELORENZO, JOSEPH P

FROMM, CHARLES J

HANSON, ALAN ROSS

HERNANDEZ, SCOTT

HORAN, CHARLES A III

JONES, DARIN G

KEANE, THOMAS P

MILLER, ROBERT WILLIAM

MINOR, LARRY W

MULLEN, JAMES ANTHONY

REGAL, GERALDINE K

RIDDLE, KENNETH H.

RUBAN, DARRELL L

SCHREIBMAN, JACK L

VAN STEENBURG, JOHN W

Federal Railroad Administration

ALEXY, JOHN KARL

ALLAHYAR, MARYAM

HAYWARD-WILLIAMS, CAROLYN

JORTLAND, BRETT ANDREW

KENDALL, QUINTIN C

LESTINGI, MICHAEL W.

LONG, MICHAEL T

NISSENBAUM, PAUL

PENNINGTON, REBECCA A

RENNERT, JAMIE P.

REYES-ALICEA, REBECCA

RIGGS, TAMELA LYNN

Federal Transit Administration

AHMAD, MOKHTEE

ALLEN, REGINALD E

BRENNAN, JOHN J III

BROOKINS, KELLEY

BUCHANAN, HENRIKA J.

DALTON-KUMINS, SELENE FAE

GARCIA CREWS, THERESA

GEHRKE, LINDA M

GOODMAN, STEPHEN C

NIFOSI, DANA C.

PATRICK, ROBERT C

TAYLOR, YVETTE G

TELLIS, RAYMOND S

TERWILLIGER, CINDY E

TUCCILLO, ROBERT J

VALDES, VINCENT

WELBES, MATTHEW J

WILLIAMS, KIMBERLY JANE

Maritime Administration

BALLARD, JOHN R

BALZANO, RICHARD A

BRAND, LAUREN K

BROHL, HELEN A

BUONO, JOACHIM

BURNETT, DOUGLAS R

DAVIS, DELIA P

DUNLAP, SUSAN LYNN

FISHER, ANTHONY JR

KUMAR, SHASHI N

MC MAHON, CHRISTOPHER J

MOSCHKIN, LYDIA

PIXA, RAND R.

TOKARSKI, KEVIN M

National Highway Traffic Safety Administration

AIZCORBE, CHRISTINA G

BLINCOE, LAWRENCE J

DANIELSON, JACK H.

DOHERTY, JANE H

DONALDSON, K JOHN

GIUSEPPE, JEFFREY M

HATIPOGLU, CEM

HINES, DAVID M

JOHNSON, TIM J

KING, HEIDI R

KOLLY, JOSEPH M

KROHMER, JON R

MARSHALL, JOHN W

MATHEKE, OTTO G III

MORRISON, JONATHAN C

PARKER, CYNTHIA D

PFISTER, JAMIE DURHAM

POSTEN, RAYMOND R

RIDELLA, STEPHEN A

RITTER, ROBERT G

RUSHTON, SEAN G

SPRAGUE, MARY G.

WOOD, STEPHEN P

Pipeline and Hazardous Materials Safety Administration

BORENER, SHERRY S

CURRY, KIM Y

DAUGHERTY, LINDA

FARLEY, AUDREY L.

MAYBERRY, ALAN K

MCMILLAN, HOWARD W

PEARCE, DRUE

PERRIELLO, TAMI L

QUADE, WILLIAM A III

ROBERTI, PAUL

SCHOONOVER, WILLIAM S

TAHAMTANI, MASSOUD

TSAGANOS, VASILIKI B

Saint Lawrence Seaway Development Corporation

LAVIGNE, THOMAS A

MCINERNEY, MARIANNE

MIDDLEBROOK, CRAIG H

Office of the Secretary

ABRAHAM, JULIE

ALBRIGHT, JACK G

AUDET, ANNE H

AUGUSTINE, JOHN E

AYLWARD, ANNE D

BALDWIN, KRISTEN K.

BEDELL, ANTHONY R.

BOHNERT, ROGER V

CALLENDER, DUANE A

CARLSON, TERENCE W

CHAVEZ, RICHARD M.

CHULUMOVICH, MADELINE M

COGGINS, COLLEEN P

CONNORS, SUSAN M

CONRAD, JESSICA MARIE

COTE, GREGORY D

COTE, RYAN ERNEST

DEBONO, DAN PATRICK

FARAJIAN, MORTEZA

FLEMING, GREGG G

FULTON, THOMAS FINCH

FUNK, JENNIFER S

FURCHTGOTT—ROTH, DIANA EL

GAUTREAUX, CATHY FOSTER

GEIER, PAUL M

GENERO, LAURA

HEDBERG, BRIAN J

HERLIHY, THOMAS W

HOLDEN, STEPHEN H.

HOMAN, TODD M

HORN, DONALD H

HU, PATRICIA S.

HURDLE, LANA T

INMAN, JAMES TODD

JACKSON, RONALD A

JAMES, CHARLES E.

JEFFERSON, DAPHNE Y

JOYNER, GREGORY GILBERT

KALETA, JUDITH S

KNOUSE, RUTH D.

KRAMER, JOHN E JR

LAWRENCE, CHRISTINE A

LEFEVRE, MARIA S.

LOHRENZ, MAURA C

MACECEVIC, LISA J

MARCHESE, APRIL LYNN

MARTIN, HAROLD W III

MCCARTNEY, ERIN P

MCKENNA, WILLIAM

MCMASTER, SEAN K B

MEDINA, YVONNE R.

MILLER, JANNINE MARIE

MORGAN, DANIEL S.

MORRIS, WILLIS A.

MOSS, JONATHAN P.

O'BERRY, DONNA

ORNDORFF, ANDREW R

OWENS, JAMES C JR

PAIEWONSKY, LUISA M

PETROSINOWOOLVERTON, MARI

POPKIN, STEPHEN M

POST, ANDREW CHARLES

REINKE, ANNE CHETTLE

SCHMITT, ROLF R

SHORT, DAVID E

SIMPSON, JOAN

SMITH, LOREN A. JR

SMITH, WILLIE H

SOLOMON, GERALD L

STURGES, MATHEW MICHAEL

SZAKAL, KEITH J

SZATMARY, RONALD ALLEN JR

TIMOTHY, DARREN P

WASHINGTON, KEITH E

WILLIAMS, LISA M

WOMACK, KEVIN C.

WORKIE, BLANE A

ZIFF, LAURA M

[FR Doc. 2019-16977 Filed 8-7-19; 8:45 am]

BILLING CODE 4910-9X-P